DEPARTMENT OF TRANSPORTATION

Federal Aviation Administration

14 CFR Part 39

[Docket No. FAA-2016-9509; Directorate Identifier 2016-NM-177-AD; Amendment 39-18750; AD 2016-25-24]

RIN 2120-AA64

Airworthiness Directives; Airbus Airplanes

AGENCY: Federal Aviation Administration (FAA), DOT.

ACTION: Final rule; request for comments.

SUMMARY: We are adopting a new airworthiness directive (AD) for certain Airbus Model A319, A320, and A321 series airplanes. This AD requires repetitive general visual inspections for broken battery retaining rods and replacement if necessary. We are issuing this AD to address the unsafe condition on these products.

DATES: This AD becomes effective January 3, 2017.

The Director of the Federal Register approved the incorporation by reference of a certain publication listed in this AD as of January 3, 2017.

We must receive comments on this AD by January 30, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this final rule, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9509.

Examining the AD Docket

You may examine the AD docket on the Internet at http://www.regulations.gov by searching for and locating Docket No. FAA-2016-9509; or in person at the Docket Operations office between 9 a.m. and 5 p.m., Monday through Friday, except Federal holidays. The AD docket contains this AD, the regulatory evaluation, any comments received, and other information. The street address for the Docket Operations office (telephone: 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone: 425-227-1405; fax: 425-227-1149.

SUPPLEMENTARY INFORMATION:

Discussion

The European Aviation Safety Agency (EASA), which is the Technical Agent for the Member States of the European Union, has issued EASA AD 2016-0204, dated October 13, 2016; corrected October 19, 2016 (referred to after this as the Mandatory Continuing Airworthiness Information, or “the MCAI”); to correct an unsafe condition for certain Airbus Model A319, A320, and A321 series airplanes. The MCAI states:

Several occurrences have been reported of battery [retaining] rod failures on certain Airbus aeroplanes. Subsequent examination of broken [battery retaining] rod parts determined that these failures were due to quality defects of the material used during parts manufacturing. Each battery is secured on an aeroplane by two [battery retaining] rods. Failure of one rod, in case of severe turbulence during flight or hard landing, could lead to battery displacement, or roll on the remaining rod side, up to a point where the remaining rod could be disengaged. The battery could ultimately detach from its housing and damage relays, connectors, contactor boxes, air ducts and surrounding structure.

This condition, if not detected and corrected, could lead to the loss of the normal electrical generation not followed by an automatic recovery of essential network.

To address this potential unsafe condition, Airbus issued Alert Operators Transmission (AOT) A92N001-16 (later revised) to provide instructions for inspection and replacement of battery [retaining] rods.

For the reason described above, this [EASA] AD requires repetitive general visual inspections (GVI) of the four battery [retaining] rods (two per battery), and, in case of findings, replacement of [broken] battery [retaining] rods.

Pending the outcome of the on-going investigation, this [EASA] AD is considered an interim action and further [EASA] AD action may follow.

This [EASA] AD is republished to add two missing models to the applicability (the respective MSN were already listed in the original [EASA] AD) and to correct the battery [retaining] rod Part Number (P/N).

You may examine the MCAI on the Internet at http://www.regulations.gov by searching for and locating Docket No. FAA-2016-9509.

Related Service Information Under 1 CFR Part 51

Airbus has issued Alert Operators Transmission (AOT) A92N001-16, Rev 01, dated October 10, 2016. The service information describes procedures for general visual inspections to look for broken battery retaining rods. This service information is reasonably available because the interested parties have access to it through their normal course of business or by the means identified in the ADDRESSES section.

Differences Between This AD and the MCAI or Service Information

The MCAI specifies to replace broken rods in accordance with Airbus AOT A92N001-16, Rev 01, dated October 10, 2016. However, Airbus AOT A92N001-16, Rev 01, dated October 10, 2016, does not include procedures to replace broken rods. This AD requires that broken rods be replaced using a method approved by the Manager, International Branch, ANM-116, Transport Airplane Directorate, FAA; or EASA; or Airbus's EASA Design Organization Approval (DOA).

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because the detachment of a battery from the housing and damage to other electrical equipment and surrounding structure could lead to loss of normal electrical power generation and recovery of essential network and consequential control of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2016-9509; Directorate Identifier 2016-NM-177-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 330 airplanes of U.S. registry.

We estimate the following costs to comply with this AD:

Estimated Costs
Action | Labor cost | Parts cost | Cost per product | Cost on U.S. operators
Inspection | 1 work-hour × $85 per hour = $185 | $0 | $85 | $28,050

We estimate the following costs to do any necessary replacements that would be required based on the results of the inspection. We have no way of determining the number of aircraft that might need this replacement.

On-Condition Costs
Action | Labor cost | Parts cost | Cost per product
Replace Battery Rod | 1 work-hour × $85 per hour = $85 per battery rod | ¹ $0 | $85 per battery rod.
¹ Parts costs are not available from the manufacturer.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-25-24 Airbus: Amendment 39-18750; Docket No. FAA-2016-9509; Directorate Identifier 2016-NM-177-AD.

(a) Effective Date

This AD becomes effective January 3, 2017.

(b) Affected ADs

None.

(c) Applicability

This AD applies to Airbus Model A319-111, A319-112, A319-113, A319-114, A319-115, A319-131, A319-132, A319-133, A320-211, A320-212, A320-214, A320-231, A320-232, A320-233, A320-251N, A320-271N, A321-111, A321-112, A321-131, A321-211, A321-212, A321-213, A321-231, and A321-232 airplanes, certificated in any category, manufacturer serial numbers (MSN) 5182, 5295, 5327, 5406, 5470, 5545, 5650, 5656, 5664, 5671, 5679, 5685, 5690, 5700, 5701, 5711, 5717, 5722, 5725, 5731, 5732, 5734, 5738, 5740, 5742, 5744, 5746, 5748, 5750 through 5752 inclusive, 5754 through 5756 inclusive, 5758 through 5760 inclusive, 5762, 5763, 5765 through 6100 inclusive, 6102 through 6285 inclusive, 6287 through 6418 inclusive, 6420 through 6463 inclusive, 6465 through 6619 inclusive, 6621 through 6641 inclusive, 6643 through 6672 inclusive, 6674 through 6719 inclusive, 6721 through 6771 inclusive, 6773 through 6828 inclusive, 6830 through 6832 inclusive, 6834 through 6838 inclusive, 6840 through 6867 inclusive, 6869 through 6903 inclusive, 6905, 6906, 6908 through 6913 inclusive, 6915 through 6919 inclusive, 6921 through 6944 inclusive, 6947 through 6951 inclusive, 6953 through 6966 inclusive, 6968 through 6972 inclusive, 6974, 6976 through 6992 inclusive, 6994 through 7000 inclusive, 7002 through 7010 inclusive, 7012, 7014 through 7032 inclusive, 7034 through 7045 inclusive, 7047 through 7050 inclusive, 7052, 7054 through 7059 inclusive, 7061 through 7071 inclusive, 7073 through 7078 inclusive, 7080, 7081, 7084 through 7093 inclusive, 7095 through 7098 inclusive, 7100, 7101, 7104, 7105, 7108 through 7110 inclusive, 7112 through 7121 inclusive, 7123, 7125, 7127, 7128, 7130, 7132, 7133, 7135, 7136, 7138 through 7140 inclusive, 7142 through 7146 inclusive, 7148, 7149, 7152 through 7156 inclusive, 7158, 7160, 7161, 7163 through 7167 inclusive, 7169 through 7171 inclusive, 7173, 7174, 7176, 7177, 7179, 7180, 7182 through 7184 inclusive, 7187, 7189, 7191, 7194, 7196 through 7200 inclusive, 7203, 7204, 7206, 7207, 7210, 7212 through 7225 inclusive, 7227, 7228, 7230, 7232, 7235, 7238, 7241 through 7244 inclusive, 7248, and 7261.

(d) Subject

Air Transport Association (ATA) of America Code 92, Electrical System Installation.

(e) Reason

This AD was prompted by reports of broken battery retaining rods. We are issuing this AD to detect and correct broken battery retaining rods, which, in the event of a hard landing or severe turbulence, can cause the battery to detach from its housing, resulting in damage to other electrical equipment and surrounding structure. This condition could lead to loss of normal electrical power generation and subsequent inability to restore electrical power to essential airplane systems.

(f) Compliance

Comply with this AD within the compliance times specified, unless already done.

(g) Repetitive Inspections

Within 4 months after the effective date of this AD, and thereafter at intervals not to exceed 4 months, accomplish a general visual inspection of each battery retaining rod part number (P/N) D9241023700000, in accordance with the instructions of Airbus Alert Operators Transmission (AOT) A92N001-16, Rev 01, dated October 10, 2016.

(h) Additional Inspections After Any Hard Landing or Any Flight in Severe Turbulence

In addition to the inspections required by paragraph (g) of this AD, after any hard landing, or after any flight in severe turbulence: Before further flight, accomplish a general visual inspection of each battery retaining rod P/N D9241023700000, in accordance with the instructions of Airbus AOT A92N001-16, Rev 01, dated October 10, 2016.

(i) Corrective Action

If, during any general visual inspection required by paragraph (g) or (h) of this AD, as applicable, any battery retaining rod is found broken, before further flight, replace each affected battery retaining rod with a serviceable part using a method approved by the Manager, International Branch, ANM-116, Transport Airplane Directorate, FAA; or the European Aviation Safety Agency (EASA); or Airbus's EASA Design Organization Approval (DOA).

Note 1 to paragraph (i) of this AD: Additional guidance for the replacement of battery retaining rods can be found in Tasks 24-38-51-000-001-A, Removal of the Batteries, and 24-38-51-400-001-A, Installation of the Batteries, of the Airbus A319/A320/A321 Aircraft Maintenance Manual (AMM).

(j) Provision Regarding Terminating Action

Replacement of failed battery retaining rods on an airplane with serviceable parts, as required by paragraph (i) of this AD, does not constitute terminating action for the repetitive general visual inspections required by paragraphs (g) and (h) of this AD for that airplane.

(k) Credit for Previous Actions

This paragraph provides credit for actions required by paragraphs (g) and (h) of this AD, if those actions were performed before the effective date of this AD using Airbus AOT A92N001-16, dated August 25, 2016.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: 425-227-1405; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(m) Special Flight Permits

Special flight permits, as described in Section 21.197 and Section 21.199 of the Federal Aviation Regulations (14 CFR 21.197 and 21.199), are not allowed.

(n) Related Information

(1) Refer to Mandatory Continuing Airworthiness Information (MCAI) EASA AD 2016-0204, dated October 13, 2016; corrected October 19, 2016; for related information. You may examine the MCAI on the Internet at http://www.regulations.gov by searching for and locating Docket No. FAA-2016-9509.

(2) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission (AOT) A92N001-16, Rev 01, dated October 10, 2016.

(ii) Reserved.

(3) For service information identified in this AD, contact Airbus, Airworthiness Office-EIAS, 1 Rond Point Maurice Bellonte, 31707 Blagnac Cedex, France; telephone: +33 5 61 93 36 96; fax: +33 5 61 93 44 51; email: account.airworth-eas@airbus.com; Internet: http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 2, 2016.
Michael Kaszycki,
Acting Manager, Transport Airplane Directorate, Aircraft Certification Service.

[FR Doc. 2016-30038 Filed 12-15-16; 8:45 am]

BILLING CODE 4910-13-P